DEPARTMENT OF DEFENSE

Department of the Air Force

Office of the Secretary of the Air Force; Active Duty Service Determinations for Civilian or Contractual Groups; Acceptance of Group Application Under Public Law 95-202 and Department of Defense Directive (DODD) 1000.20

Vietnamese citizens who served in Vietnam under contract with the U.S. Armed Forces and were assigned to reconnaissance teams and exploitation forces within the Military Assistance Command, Studies and Observations Group (MACVSOG), Ground Operations OP-35, Command and Control (C&C), from January 1964 to April 1972.

Under the provisions of section 401, Public Law 95-202 and DoD Directive 1000.20, the Department of Defense Civilian/Military Service Review Board has accepted an application on behalf of a group know as: “Vietnamese Citizens Who Served in Vietnam Under Contract With the U.S. Armed Forces and Were Assigned to Reconnaissance Teams and Exploitation Forces Within the Military Assistance Command, Studies and Observations Group (MACVSOG), Ground Operations OP-35, Command and Control (C&C), From January 1964 to April 1972.”

Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Albert F. Bodnar,
Air Force Federal Register Liaison Officer.

[FR Doc. 05-5691 Filed 3-22-05; 8:45 am]

BILLING CODE 5001-05-P